DEPARTMENT OF THE INTERIOR

Fish and Wildlife Service

Recovery Plan for Silene spaldingii (Spalding's Catchfly)

AGENCY: Fish and Wildlife Service, Interior.

ACTION: Notice of document availability.

SUMMARY: We, the U.S. Fish and Wildlife Service, announce the availability of the Recovery Plan for Silene spaldingii (Spalding's Catchfly). Silene spaldingii is a plant native to portions of Idaho, Montana, Oregon, Washington, and British Columbia, Canada. We listed this species as a threatened species under the Endangered Species Act in 2001.

ADDRESSES: Copies of the final recovery plan are available by request from the following offices: U.S. Fish and Wildlife Service, Snake River Fish and Wildlife Office, 1387 S. Vinnell Way, Suite 368, Boise, Idaho 83709 (telephone: 208-378-5243; fax: 208-378-5262); U.S. Fish and Wildlife Service, Helena Field Office, 585 Shepard Way, Helena, Montana 59601 (telephone: 406-449-5225; fax: 406-449-5339); U.S. Fish and Wildlife Service, La Grande Field Office, 3502 Highway 30, La Grande, Oregon 97850 (telephone: 541-962-8584; fax: 541-962-8581); and U.S. Fish and Wildlife Service, Upper Columbia Fish and Wildlife Office, 11103 East Montgomery Drive, Suite 2, Spokane, Washington 99206 (telephone: 509-891-6839; fax: 509-891-6748). Requests for copies of the document should be addressed to the Field Supervisor at the above offices. An electronic copy of the recovery plan will also be made available online at http://endangered.fws.gov/recovery/index.html#plans and at http://idahoes.fws.gov. Printed copies of the recovery plan will be available for distribution in 4 to 6 weeks.

FOR FURTHER INFORMATION CONTACT: Steve Duke, Division Chief, at the above Boise address (telephone: 208-387-5345; e-mail: Steve_Duke@fws.gov).

SUPPLEMENTARY INFORMATION:

Background

Restoring endangered or threatened animals and plants to the point where they are again secure, self-sustaining members of their ecosystems is a primary goal of our endangered species program. The Endangered Species Act (16 U.S.C. 1531, et seq.) (ESA) requires the development of recovery plans for listed species unless such a plan would not promote the conservation of a particular species. Recovery plans help guide the recovery effort by describing actions considered necessary for the conservation of the species, establishing criteria for downlisting or delisting listed species, and estimating time and cost for implementing the measures needed for recovery.

The Endangered Species Act of 1973, as amended (16 U.S.C. 1531, et seq.) (Act), requires the development of recovery plans for listed species unless such a plan would not promote the conservation of a particular species. Section 4(f) of the Act as amended in 1988 requires that public notice and an opportunity for public review and comment be provided during recovery plan development. The Draft Recovery Plan for Silene spaldingii (Spalding's catchfly) was available for public comment from March 16 through May 15, 2006 (71 FR 13625). Information presented during the public comment period has been considered in the preparation of this final recovery plan, and is summarized in an appendix to the recovery plan. We will forward substantive comments regarding recovery plan implementation to appropriate Federal or other entities so they can take these comments into account during the course of implementing recovery actions.

Silene spaldingii (Spalding's catchfly) is a long-lived perennial forb in the pink or carnation family (Caryophyllaceae) with four to seven pairs of lance-shaped leaves and small greenish-white flowers. The green portions of the plant are covered in sticky hairs that often catch debris and small insects, hence the common name of the plant, “Spalding's catchfly.” Silene spaldingii is currently known from 99 primarily small populations; only 10 of these have more than 500 individuals, and an additional 23 populations have at least 100 individuals. Occupied habitat includes five physiographic regions in Idaho, Oregon, Washington, Montana, and British Colombia. These regions are as follows: the Palouse Grasslands in west-central Idaho and southeastern Washington, the Channeled Scablands in eastern Washington, the Blue Mountain Basins in northeastern Oregon, the Canyon Grasslands of the Snake River and its tributaries in Washington and Idaho, and the Intermontane Valleys of northwestern Montana and southern British Columbia.

Silene spaldingii is impacted by habitat loss due to human development, habitat degradation associated with domestic livestock and wildlife grazing, and invasions of aggressive nonnative plants. In addition, a loss of genetic fitness is a problem for many small, fragmented populations where genetic exchange is limited. Other impacts include changes in fire frequency and seasonality, off-road vehicle use, and herbicide spraying and drift.

The objective of this recovery plan is to recover Silene spaldingii by protecting and maintaining reproducing, self-sustaining populations in identified key conservation areas in each of its five distinct physiographic regions. Under the recovery plan this would be accomplished by developing habitat management plans at those key conservation areas that provide a strategy for managing Silene spaldingii and effectively address the threats to the species. Key conservation areas would need to support at least 500 reproducing individuals of Silene spaldingii, be composed of at least 80 percent native vegetation, have adjacent habitat to support pollinating insects, and are not small or fragmented (intact habitat, preferably at least 40 acres [16 hectares] in size). Delisting of Silene spaldingii would be considered when 27 populations occur rangewide at key conservation areas. Populations at these key conservation areas would have to demonstrate stable or increasing population trends for at least 20 years, nonnative plants would have to be successfully controlled, and prescribed burning must be conducted to mimic historical fire regimes and with care not to impact Silene spaldingii or to exacerbate invasive nonnative plant populations. Seed banking would also occur across the species' range, and a post-delisting monitoring program would be developed and ready for implementation at the time of delisting.

Authority: The authority for this action is section 4(f) of the Endangered Species Act, 16 U.S.C. 1533(f).

Dated: September 16, 2007.
Renne R. Lohoefener,
Regional Director, Region 1, U.S. Fish and Wildlife Service.

[FR Doc. E7-20159 Filed 10-11-07; 8:45 am]

BILLING CODE 4310-55-P